DEPARTMENT OF ENERGY

Federal Energy Regulatory Commission

[Project No. 14840-000]

Village of North Bennington; Notice of Preliminary Permit Application Accepted for Filing and Soliciting Comments, Motions To Intervene, and Competing Applications

On February 28, 2017, the Village of North Bennington, Vermont, filed an application for a preliminary permit, pursuant to section 4(f) of the Federal Power Act (FPA), proposing to study the feasibility of the Firehouse Dam Hydroelectric Project (Firehouse Project or project) to be located on Paran Creek, near the Village of North Bennington, in Bennington County, Vermont. The sole purpose of a preliminary permit, if issued, is to grant the permit holder priority to file a license application during the permit term. A preliminary permit does not authorize the permit holder to perform any land-disturbing activities or otherwise enter upon lands or waters owned by others without the owners' express permission.

The proposed Firehouse Project would consist of: (1) The existing 40-foot-long, 10-foot-concrete gravity Firehouse Dam and spillway topped with new 1-foot-high flashboards and/or a new crest control inflatable rubber gate; (2) an existing 1.27-acre impoundment with a normal maximum water surface elevation 614.03 feet above mean sea level; (3) a new intake structure; (4) a new 20-foot-long, 15-foot-wide concrete and wood powerhouse containing a single 36-kilowatt turbine-generator unit; (5) a new 75-foot-long, 12.47-kilovolt transmission line; and (6) appurtenant facilities. The estimated annual generation of the Firehouse Project would be 171.58 megawatt-hours.

Applicant Contact: William F. Scully, P.O. Box 338, North Bennington, Vermont 05257; phone: (802) 379-2469; email: wfscully@gmail.com.

FERC Contact: Michael Watts; phone: (202) 502-6123; email: michael.watts@ferc.gov.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14840-000.

More information about this project, including a copy of the application, can be viewed or printed on the “eLibrary” link of Commission's Web site at http://www.ferc.gov/docs-filing/elibrary.asp. Enter the docket number (P-14840) in the docket number field to access the document. For assistance, contact FERC Online Support.

Dated: March 16, 2017.
Kimberly D. Bose,
Secretary.

[FR Doc. 2017-05795 Filed 3-22-17; 8:45 am]

BILLING CODE 6717-01-P